COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: March 24, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): 4240-00-SAM-0024—Hearing Protection, Over-the-Head Earmuff, NRR 20db

Designated Source of Supply: Access: Supports for Living Inc., Middletown, NY

Contracting Activity: DLA TROOP SUPPORT, PHILADELPHIA, PA

NSN(s)—Product Name(s):

4330-01-189-1007—Filter-Separator, Liquid Fuel

2540-01-377-3125—Arm, Windshield Wiper, HMMW Vehicle, 20″L

Designated Source of Supply: Georgia Industries for the Blind, Bainbridge, GA

Contracting Activity: DLA LAND AND MARITIME, COLUMBUS, OH

NSN(s)—Product Name(s): 7520-01-585-0980—Planner, Non-Dated, Flexible, 30/60 Day, Erasable, 48″ x 32″

Designated Source of Supply: Chicago Lighthouse Industries, Chicago, IL

Contracting Activity: GSA/FAS FURNITURE SYSTEMS MGT DIV, PHILADELPHIA, PA

NSN(s)—Product Name(s):

8340-01-600-4807—Individual Reversible Field Tarpaulin, 92.5″x82.5″, Camouflage Face with Foilage Green Back

8340-01-600-4809—Individual Reversible Field Tarpaulin, 92.5″x82.5″, Camouflage Face with Desert Sand Back

Designated Source of Supply: ORC Industries, Inc., La Crosse, WI

Contracting Activity: DLA TROOP SUPPORT, PHILADELPHIA, PA

NSN(s)—Product Name(s):

8340-01-600-4807—Individual Reversible Field Tarpaulin, 92.5″x82.5″, Camouflage Face with Foilage Green Back

8340-01-600-4809—Individual Reversible Field Tarpaulin, 92.5″x82.5″, Camouflage Face with Desert Sand Back

Designated Source of Supply: Huntsville Rehabilitation Foundation, Inc., Huntsville, AL

Contracting Activity: DLA TROOP SUPPORT, PHILADELPHIA, PA

Service(s)

Service Type: Laundry Service

Mandatory for: Department of the Navy, Naval Hospital Pensacola, 6000 West Highway 98 Pensacola, FL

Designated Source of Supply: Wiregrass Rehabilitation Center, Inc., Dothan, AL

Contracting Activity: DEPT OF THE NAVY, NAVSUP FLT LOG CTR JACKSONVILLE

Michael R. Jurkowski,
Acting Director, Business Operations.

[FR Doc. 2024-03692 Filed 2-22-24; 8:45 am]

BILLING CODE 6353-01-P